ENVIRONMENTAL PROTECTION AGENCY

EPA-HQ-OPP-2007-0588;FRL-8388-5]

Acrolein, d-Phenothrin, and Sulfometuron Methyl, Reregistration Eligibility Decision; Notice of Availability

AGENCY: Environmental Protection Agency (EPA).

ACTION: Notice.

SUMMARY: This notice announces the availability of EPA's Reregistration Eligibility Decisions (REDs) for the pesticides acrolein, d-phenothrin, and sulfometuron methyl, and opens a public comment period on this document. The Agency's risk assessments and other related documents also are available in the acrolein, d-phenothrin, and sulfometuron methyl Dockets. Acrolein is a biocide used as a herbicide in irrigation canals and as an antimicrobial agent for drilling muds in the petroleum industry. d-Phenothrin is a synthetic pyrethroid with indoor uses in foggers, carpet powders, crack and crevice treatments, and pet care products and outdoor uses as a mosquito adulticide. Sulfometuron methyl is a non-selective sulfonylurea herbicide primarily used for weed control in forestry and vegetative management. Neither acrolein, d-phenothrin, or sulfometuron methyl have any food uses. EPA has reviewed acrolein, d-phenothrin, and sulfometuron methyl through the public participation process that the Agency uses to involve the public in developing pesticide reregistration and tolerance reassessment decisions. Through these programs, EPA is ensuring that all pesticides meet current health and safety standards.

DATES: Comments must be received on or before January 12, 2009.

ADDRESSES: Submit your comments, identified by docket identification (ID) numbers EPA-HQ-OPP-2007-0588 (Acrolein); EPA-HQ-OPP-2008-0140 (d-Phenothrin); EPA-HQ-OPP-2008-0129 (Sulfometuron Methyl), by one of the following methods:

• Federal eRulemaking Portal: http://www.regulations.gov. Follow the on-line instructions for submitting comments.

• Mail: Office of Pesticide Programs (OPP) Regulatory Public Docket (7502P), Environmental Protection Agency, 1200 Pennsylvania Ave., NW, Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID numbers EPA-HQ-OPP-2007-0588 (Acrolein); EPA-HQ-OPP-2008-0140 (d-Phenothrin); EPA-HQ-OPP-2008-0129 (Sulfometuron Methyl). EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although,listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Laura Parsons, Special Review and Reregistration Division (7508P), Office of Pesticide Programs, Environmental Protection Agency, 1200 Pennsylvania Ave., NW., Washington, DC 20460-0001; telephone number: (703) 305-5776; fax number: (703) 308-7042; e-mail address: parsons.laura@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to: When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

Under section 4 of the Federal Insecticide, Fungicide, and Rodenticide Act (FIFRA), EPA is reevaluating existing pesticides to ensure that they meet current scientific and regulatory standards. EPA has completed REDs for the pesticides, acrolein, d-phenothrin, and sulfometuron methyl under section 4(g)(2)(A) of FIFRA. Acrolein is a biocide used as a herbicide in irrigation canals and as an antimicrobial agent for drilling muds in the petroleum industry. d-Phenothrin is a pyrethroid with indoor uses of foggers, carpet powders, crack and crevice treatments, and pet care products and outdoor uses as a mosquito adulticide. Sulfometuron methyl is a non-selective sulfonylurea herbicide primarily used for weed control in forestry and vegetative management. Neither acrolein, sulfometuron methyl, or d-phenothrin have any food uses. EPA has determined that the database to support reregistration is substantially complete and that products containing acrolein, d-phenothrin, and sulfometuron methyl are eligible for reregistration, provided the risks are mitigated either in the manner described in the RED or by another means that achieves equivalent risk reduction. Upon submission of any required product specific data under section 4(g)(2)(B) of FIFRA and any necessary changes to the registration and labeling (either to address concerns identified in the RED or as a result of product specific data), EPA will make a final reregistration decision under section 4(g)(2)(C) of FIFRA for products containing acrolein, d-phenothrin, and sulfometuron methyl.

Table 1.—Reregistration Eligibility Decision Dockets Opening
Reregistration Case Name and Number | Docket ID Number | Chemical Review manager, Telephone Number, E-mail Address
Acrolein, 2005 | EPA--HQ-OPP-2007-0588 | Laura Parsons (703) 305-5776, parsons.laura@epa.gov
d-Phenothrin, 0426 | EPA-HQ-OPP-2008-0140 | Jennifer Howenstine, (703) 305-0741, howenstine.jennifer@epa.gov
Sulfometuron Methyl, 3136 | EPA-HQ-OPP-2008-0129 | Rusty Wasem, (703) 305-6979, wasem.russell@epa.gov

EPA is applying the principles of public participation to all pesticides undergoing reregistration and tolerance reassessment. The Agency's Pesticide Tolerance Reassessment and Reregistration; Public Participation Process, published in the Federal Register on May 14, 2004, (69 FR 26819) (FRL-7357-9) explains that in conducting these programs, EPA is tailoring its public participation process to be commensurate with the level of risk, extent of use, complexity of issues, and degree of public concern associated with each pesticide. Due to their uses, risks, and other factors, d-phenothrin and sulfometuron methyl were reviewed through the modified 4-Phase public participation process. Acrolein was reviewed through the 6-phase process. Through this process, EPA worked extensively with stakeholders and the public to reach the regulatory decisions for acrolein, d-phenothrin, and sulfometuron methyl.

B. What is the Agency's Authority for Taking this Action?

Section 4(g)(2) of FIFRA, as amended, directs that, after submission of all data concerning a pesticide active ingredient, “the Administrator shall determine whether pesticides containing such active ingredient are eligible for reregistration,” before calling in product specific data on individual end-use products and either reregistering products or taking other “appropriate regulatory action.”

List of Subjects

Environmental protection, Pesticides and pests.

Dated: October 31, 2008.
Steven Bradbury,
Director, Special Review and Reregistration Division, Office of Pesticide Programs.

[FR Doc. E8-26718 Filed 11-10-08; 8:45 am]

BILLING CODE 6560-50-S